DEPARTMENT OF ENERGY

Federal Energy Regulatory Commission

Combined Notice of Filings #1

Take notice that the Commission received the following exempt wholesale generator filings:

Docket Numbers: EG17-101-000.

Applicants: Shoe Creek Solar, LLC.

Description: Self-Certification of EG of Shoe Creek Solar, LLC.

Filed Date: 4/25/17.

Accession Number: 20170425-5310.

Comments Due: 5 p.m. ET 5/16/17.

Take notice that the Commission received the following electric rate filings:

Docket Numbers: ER10-1325-007; ER10-1330 005; ER10-1333 007; ER10-2032 006; ER10-2033 006; ER12-1946 007; ER12-2313 003; ER15-190 004; ER15-255 002; ER16-141 003; ER16-355 001; ER17-543 001.

Applicants: CinCap V LLC, Colonial Eagle Solar, LLC, Conetoe II Solar, LLC, Duke Energy Beckjord, LLC, Duke Energy Beckjord Storage, LLC, Duke Energy Commercial Enterprises, Inc., Duke Energy Kentucky, Inc., Duke Energy Ohio, Inc., Duke Energy Renewable Services, LLC, Duke Energy SAM, LLC, Laurel Hill Wind Energy, LLC, North Allegheny Wind, LLC.

Description: Supplement to December 21, 2016 Triennial Market Power Analysis for the Northeast Region of Duke Energy Corporation subsidiaries.

Filed Date: 4/21/17.

Accession Number: 20170421-5227.

Comments Due: 5 p.m. ET 5/12/17.

Docket Numbers: ER15-1882-003.

Applicants: PSEG Energy Resources & Trade LLC.

Description: Compliance filing: Cancellation of certain tariff records in compliance with FERC Staff to be effective 1/7/2016.

Filed Date: 4/26/17.

Accession Number: 20170426-5252.

Comments Due: 5 p.m. ET 5/17/17.

Docket Numbers: ER16-1969-004.

Applicants: Midcontinent Independent System Operator, Inc.

Description: Compliance filing: 2017-04-24_Addtl. compliance filing to address NIPSCO Order EL13-88 to be effective 8/22/2016.

Filed Date: 4/24/17.

Accession Number: 20170424-5287.

Comments Due: 5 p.m. ET 5/15/17.

Docket Numbers: ER17-569-002.

Applicants: National Choice Energy LLC.

Description: Tariff Amendment: Baseline Amendment to be effective 12/30/2016.

Filed Date: 4/25/17.

Accession Number: 20170425-5337.

Comments Due: 5 p.m. ET 5/16/17.

Docket Numbers: ER17-891-001.

Applicants: Louisville Gas and Electric Company.

Description: Report Filing: IMEA IMPA Refund Report Compliance Filing to be effective N/A.

Filed Date: 4/26/17.

Accession Number: 20170426-5254.

Comments Due: 5 p.m. ET 5/17/17.

Docket Numbers: ER17-1378-002.

Applicants: Just Energy Solutions Inc.

Description: Tariff Amendment: Errata to supplement to notice of succession to be effective 4/4/2017.

Filed Date: 4/25/17.

Accession Number: 20170425-5211.

Comments Due: 5 p.m. ET 5/16/17.

Docket Numbers: ER17-1465-001.

Applicants: PJM Interconnection, L.L.C.

Description: Tariff Amendment: Amendment to Filing of Third Revised Service Agreement No. 974, Queue No. AC1-06 to be effective 3/24/2017.

Filed Date: 4/25/17.

Accession Number: 20170425-5348.

Comments Due: 5 p.m. ET 5/16/17.

Docket Numbers: ER17-1471-000.

Applicants: NorthWestern Corporation.

Description: § 205(d) Rate Filing: SA 243 12th Rev—NITSA with CHS Inc. to be effective 7/1/2017.

Filed Date: 4/25/17.

Accession Number: 20170425-5299.

Comments Due: 5 p.m. ET 5/16/17.

Docket Numbers: ER17-1472-000.

Applicants: NorthWestern Corporation.

Description: § 205(d) Rate Filing: SA 792—NITSA with Big Horn County Electric Cooperative to be effective 7/1/2017.

Filed Date: 4/26/17.

Accession Number: 20170426-5079.

Comments Due: 5 p.m. ET 5/17/17.

Docket Numbers: ER17-1473-000.

Applicants: Duke Energy Florida, LLC.

Description: § 205(d) Rate Filing: DEF IA Annual Cost Factor Update (2017) to be effective 5/1/2017.

Filed Date: 4/26/17.

Accession Number: 20170426-5155.

Comments Due: 5 p.m. ET 5/17/17.

Docket Numbers: ER17-1474-000.

Applicants: Duke Energy Carolinas, LLC.

Description: § 205(d) Rate Filing: DEC-Kings Mountain Revised PPA RS No. 331 to be effective 7/1/2017.

Filed Date: 4/26/17.

Accession Number: 20170426-5167.

Comments Due: 5 p.m. ET 5/17/17.

Docket Numbers: ER17-1475-000.

Applicants: Safeway Inc.

Description: § 205(d) Rate Filing: Safeway Notice of Succession Filing to be effective 4/26/2017.

Filed Date: 4/26/17.

Accession Number: 20170426-5169.

Comments Due: 5 p.m. ET 5/17/17.

Docket Numbers: ER17-1476-000.

Applicants: Interstate Power and Light Company.

Description: Tariff Cancellation: HEG and IPL Notice of Cancellation of Coordination Agreement to be effective 4/26/2017.

Filed Date: 4/26/17.

Accession Number: 20170426-5243.

Comments Due: 5 p.m. ET 5/17/17.

Docket Numbers: ER17-1477-000.

Applicants: Interstate Power and Light Company.

Description: Tariff Cancellation: HEG and IPL Notice of Cancellation of LBA Agreement to be effective 4/26/2017.

Filed Date: 4/26/17.

Accession Number: 20170426-5244.

Comments Due: 5 p.m. ET 5/17/17.

Docket Numbers: ER17-1478-000.

Applicants: Louisville Gas and Electric Company.

Description: § 205(d) Rate Filing: Revised Att. L OATT Provisions to be effective 6/26/2017.

Filed Date: 4/26/17.

Accession Number: 20170426-5245.

Comments Due: 5 p.m. ET 5/17/17.

Docket Numbers: ER17-1479-000.

Applicants: Franklin County Wind, LLC.

Description: Tariff Cancellation: FCW Notice of Cancellation of MBR Tariff to be effective 4/26/2017.

Filed Date: 4/26/17.

Accession Number: 20170426-5246.

Comments Due: 5 p.m. ET 5/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2017.
Kimberly D. Bose,
Secretary.

[FR Doc. 2017-08806 Filed 5-1-17; 8:45 am]

BILLING CODE 6717-01-P